OFFICE OF PERSONNEL MANAGEMENT

5 CFR Part 532

RIN 3206-AO46

Prevailing Rate Systems; Definition of San Mateo County, California, to a Nonappropriated Fund Federal Wage System Wage Area

AGENCY: Office of Personnel Management.

ACTION: Proposed rule.

SUMMARY: The Office of Personnel Management (OPM) is proposing a rule to define San Mateo County, California, as an area of application county to the Monterey, CA, nonappropriated fund (NAF) Federal Wage System (FWS) wage area. This change is necessary because there are three NAF FWS employees working in San Mateo County, and the county is not currently defined to a NAF wage area.

DATES: Send comments on or before October 21, 2022.

ADDRESSES: You may submit comments, identified by docket number and/or Regulatory Information Number (RIN) and title, by the following method:

• Federal Rulemaking Portal: https://www.regulations.gov. Follow the instructions for submitting comments.

All submissions received must include the agency name and docket number or RIN for this document. The general policy for comments and other submissions from members of the public is to make these submissions available for public viewing at https://www.regulations.gov as they are received without change, including any personal identifiers or contact information.

FOR FURTHER INFORMATION CONTACT: Ana Paunoiu, by telephone at (202) 606-2858 or by email at pay-leave-policy@opm.gov.

SUPPLEMENTARY INFORMATION: OPM is proposing a rule to would define San Mateo County, CA, as an area of application to the Monterey, CA, NAF FWS wage area. The Department of Defense, on behalf of the Department of Veterans Affairs, notified OPM the Veterans Canteen Service now has three NAF FWS employees in San Mateo County.

Under section 532.219 of title 5, Code of Federal Regulations, each NAF wage area “shall consist of one or more survey areas, along with nonsurvey areas, if any, having nonappropriated fund employees.” San Mateo County does not meet the regulatory criteria under 5 CFR 532.219 to be established as a separate NAF wage area; however, nonsurvey counties may be combined with a survey area to form a wage area. Section 532.219 lists the regulatory criteria OPM considers when defining FWS wage area boundaries. This regulation allows consideration of the following criteria: proximity of largest activity in each county, transportation facilities and commuting patterns, and similarities of the counties in overall population, private employment in major industry categories, and kinds and sizes of private industrial establishments.

San Mateo, CA, would be defined as an area of application to the Monterey, CA, NAF FWS wage area. The proximity criterion favors the Monterey wage area. The transportation facilities and commuting patterns criterion does not favor one wage area more than another. The overall population, employment sizes, and kinds and sizes of private industrial establishments criterion does not favor one wage area more than another. While a standard review of regulatory criteria shows mixed results, the proximity criterion favors the Monterey wage area. Based on this analysis, we propose that San Mateo County be defined to the Monterey NAF wage area.

With the definition of San Mateo County to the Monterey NAF wage area, the Monterey wage area would consist of one survey county (Monterey County, CA) and two area of application counties (San Mateo and Santa Clara Counties, CA). The Federal Prevailing Rate Advisory Committee, the national labor-management committee responsible for advising OPM on matters concerning the pay of FWS employees, recommended this change by consensus. This change would be effective on the first day of the first applicable pay period beginning on or after 30 days following publication of the final regulations.

Regulatory Impact Analysis

This action is not a “significant regulatory action” under the terms of Executive Order (E.O.) 12866 (58 FR 51735, October 4, 1993) and is therefore not subject to review under E.O. 12866 and 13563 (76 FR 3821, January 21, 2011).

Regulatory Flexibility Act

OPM certifies that this rule will not have a significant economic impact on a substantial number of small entities.

Federalism

We have examined this rule in accordance with Executive Order 13132, Federalism, and have determined that this rule will not have any negative impact on the rights, roles and responsibilities of State, local, or tribal Governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Stephen Hickman,
Federal Register Liaison.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. In Appendix D to subpart B, amend the table in paragraph (3) by revising the wage area listing for CALIFORNIA, to read as follows:

Appendix D to Subpart B of Part 532—Nonappropriated Fund Wage and Survey Areas

* * * * *

Definitions of Wage Areas and Wage Area Survey Areas

* * * * *
CALIFORNIA
Kern
Survey Area
California:
Kern
Area of Application. Survey area plus:
California:
Fresno
Kings
Los Angeles
Survey Area
California:
Los Angeles
Area of Application. Survey area.
Monterey
Survey Area
California:
Monterey
Area of Application. Survey area plus:
California:
San Mateo
Santa Clara
Orange
Survey Area
California:
Orange
Area of Application. Survey area.
Riverside
Survey Area
California:
Riverside
Area of Application. Survey area.
Sacramento
Survey Area
California:
Sacramento
Area of Application. Survey area plus:
California:
Yuba
Oregon:
Jackson
Klamath
San Bernadino
Survey Area
California:
San Bernadino
Area of Application. Survey area.
San Diego
Survey Area
California:
San Diego
Area of Application. Survey area.
San Joaquin
Survey Area
California:
San Joaquin
Area of Application. Survey area.
Santa Barbara
Survey Area
California:
Santa Barbara
Area of Application. Survey area plus:
California:
San Luis Obispo
Solano
Survey Area
California:
Solano
Area of Application. Survey area plus:
California:
Alameda
Contra Costa
Marin
Napa
San Francisco
Sonoma
Ventura
Survey Area
California:
Ventura
Area of Application. Survey area.
* * * * *

* * * * *

[FR Doc. 2022-20248 Filed 9-20-22; 8:45 am]

BILLING CODE 6325-39-P